DEPARTMENT OF THE INTERIOR

Bureau of Land Management

[ES-020-03-1320-EL]

Notice of Availability of Draft Land Use Analysis/Environmental Assessment, Public Comment Period and Public Hearing

AGENCY: Bureau of Land Management, Interior.

ACTION: Notice of availability.

SUMMARY: The Bureau of Land Management's Eastern States, Jackson Field Office, has prepared a Draft Land Use Analysis/Environmental Assessment (LUA/EA) to address coal lease application ALES-51589.

DATES: Written comments must be post-marked on or before January 31, 2004 and provided to the below address.

ADDRESSES: Written comments must be provided to the Bureau of Land Management, Jackson Field Office, 411 Briarwood, Suite 404; Jackson, MS 39206.

Public Hearing: The public hearing will be held on January 8, 2004 at 7 p.m. in the Berry Community Center located at 104 Barnes Avenue, Berry, Alabama. Written comments may be provided by members of the public regardless if they attend the hearing.

FOR FURTHER INFORMATION CONTACT: Lars Johnson, Bureau of Land Management, Jackson, Mississippi, at (601) 977-5400.

SUPPLEMENTARY INFORMATION: The LUA/EA has been prepared in cooperation with the Office of Surface Mining and the Alabama Surface Mining Commission. Public comments are requested on the LUA/EA and fair market value (FMV) and maximum economic recovery (MER) of the tracts included in the lease application proposed to be offered for competitive lease sale. The coal in the tracts would be mined by underground methods. The tracts located in Sections 14, 15, 21, 22, 27, 28, 31, and 33, T 16 S, R 10 W, Huntsville Meridian in Fayette County, Alabama; encompass 2,887.2 acres.

Estimated recoverable federal reserves from the Pratt Seam are 10.789 million tons of federal coal. The proximate analysis of the coal is as follows: moisture—2.8%, ash—10%, volatiles—36.1%, fixed carbon—51.3%, Btu/lb—13,000 and sulfur—2.1%.

The public is invited to comment on the FMV and MER of the tracts proposed to be offered for lease and on factors that may affect FMV and MER. In addition, the LUA/EA is available on request from the below-listed contact person and address. A public hearing will be held on the FMV, MER and LUA/EA.

Comments that address the effect of mining the coal (underground methods) on the environment, as presented in the LUA/EA, are solicited. The public review period for the LUA/EA will be from December 23, 2003 to January 31, 2004. A public hearing will be held, as indicated below.

Procedures for leasing federal coal are provided by 43 CFR 1600 and 3400. The notice to prepare this LUA/EA was published in the Federal Register on June 20, 2003 (Volume 68, Number 119; pages 37017-37018). This notice of availability of the LUA/EA, public comment period and public hearing are required by 43 CFR 3422.1 and 43 CFR 3425.3.

As provided by 43 CFR 3422.1(a), proprietary data marked as confidential may be provided in response to this solicitation of public comments. Data so marked shall be treated in accordance with the laws and regulations governing the confidentiality of such information. A copy of the comments submitted by the public on FMV and MER, except those portions identified as proprietary and meeting exemptions stated in the Freedom of Information Act, will be available for public inspection at the Bureau of Land Management office noted above.

Comments on FMV and MER should address, but are not limited to the following factors:

1. The method of mining to be employed in order to obtain MER,

2. The method of determining FMV for the coal to be offered.

If you wish to withhold your name or address from public review or from disclosure under the Freedom of Information Act (FOIA), you must state this prominently at the beginning of your written comments. Such requests will be honored to the extent allowed by FOIA. All submissions from organizations, businesses and individuals identifying themselves as representatives or officials of organizations or businesses will be available for public inspection in entirety.

Dated: October 10, 2003.
Sid Vogelpohl,
Acting Field Manager, Jackson Field Office.

[FR Doc. 03-31837 Filed 12-23-03; 8:45 am]

BILLING CODE 4310-GJ-P